COUNCIL ON ENVIRONMENTAL QUALITY

National Environmental Policy Act (NEPA) Draft Guidance, Establishing, Applying, and Revising Categorical Exclusions Under the National Environmental Policy Act

AGENCY: Council on Environmental Quality.

ACTION: Notice of Availability, Draft Guidance, “Establishing, Applying, and Revising Categorical Exclusions Under the National Environmental Policy Act.”

SUMMARY: On February 18, 2010, the Council on Environmental Quality (CEQ) announced four steps to modernize, reinvigorate, and ease the use and increase the transparency of implementation of the National Environmental Policy Act (NEPA). Enacted in 1970, NEPA is a fundamental tool used to harmonize our economic, environmental, and social aspirations and is a cornerstone of our Nation's efforts to protect the environment. NEPA recognizes that many Federal activities affect the environment and mandates that Federal agencies consider the environmental impacts of their proposed actions before acting. Additionally, NEPA emphasizes public involvement in government actions affecting the environment by requiring that the benefits and the risks associated with proposed actions be assessed and publicly disclosed.

CEQ, which is charged with implementing NEPA, recognizes that it is a visionary and versatile law that can be used effectively to address new environmental challenges facing our Nation and also to engage the public widely and effectively. Furthermore, CEQ wants to develop more effective and accessible tools for citizen involvement in government decision-making. These actions are designed to provide carefully-tailored new assessment and reporting requirements, facilitate agency compliance with NEPA, and enhance the quality of public involvement in governmental decisions relating to the environment.

DATES: Comments should be submitted on or before April 9, 2010.

ADDRESSES: The NEPA Draft Guidance documents are available at http://www.nepa.gov. Comments on the NEPA Draft Guidance “Establishing, Applying, and Revising Categorical Exclusions under the National Environmental Policy Act” should be submitted electronically to CE.guidance@ceq.eop.gov, or in writing to The Council on Environmental Quality, Attn: Ted Boling, 722 Jackson Place, NW., Washington, DC 20503.

FOR FURTHER INFORMATION CONTACT: Ted Boling, Senior Counsel, at (202) 395-5750.

SUPPLEMENTARY INFORMATION: Many Federal actions do not have significant effects on the environment. When these actions fall into broad categories of activities, agencies may apply a “categorical exclusion” from further NEPA review. This draft guidance clarifies the rules for categorical exclusions and ensures that there is a concise public record when agencies apply them. While CEQ previously has sought public comments on this matter, this guidance provides additional clarifications, so it will seek additional public comment for 45 days. Draft guidance documents are now available at the Council on Environmental Quality Web site at http://www.nepa.gov.

Public comments are requested on or before April 9, 2010.

February 18, 2010.
Nancy Sutley,
Chair, Council on Environmental Quality.

[FR Doc. 2010-3531 Filed 2-22-10; 8:45 am]

BILLING CODE 3125-W0-P